DEPARTMENT OF COMMERCE

National Oceanic and Atmospheric Administration

Proposed Information Collection; Comment Request; Foreign Fishing Vessel Permits, Vessel, and Gear Identification, and Reporting Requirements

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 21, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Mark Wildman, (301) 427-8386 or mark.wildman@noaa.gov.

SUPPLEMENTARY INFORMATION:

I. Abstract

This request is for extension of a current information collection. The National Marine Fisheries Service (NMFS) issues permits, under the Magnuson-Stevens Fishery Conservation and Management Act (16 U.S.C. 1801 et seq.; MSA), to foreign fishing vessels fishing or operating in U.S. waters. MSA and associated regulations at 50 CFR Part 600 requires applications for the permits, vessels and certain gear be marked for identification purposes, and for permit holders to report their fishing effort and catch or, when processing fish, amount and locations of fish received from U.S. vessels. These requirements apply to all foreign vessels fishing, transshipping, or processing fish in U.S. waters. Information is collected from persons who operate a foreign fishing vessel in U.S. waters to participate in a directed fishery or joint venture operation, transship fish harvested by a U.S. vessel to a location outside the U.S., or process fish in internal waters. Each person may be required to submit information for a permit, mark their vessels and gear, or submit information about their fishing activities. To facilitate observer coverage, foreign fishing vessel operators must provide a quarterly schedule of fishing effort and upon request must also provide observers with copies of any required records. For foreign fishing vessels that process fish in internal waters, the information collected varies somewhat from other foreign fishing vessels that participate in a directed fishery or a joint venture operation. In particular these vessels may not be required to provide a permit application or mark their vessels. The information submitted in applications is used to determine whether permits should be used to authorize directed foreign fishing, participation in joint ventures with U.S. vessels, or transshipments of fish or fish products within U.S. waters. The display of identifying numbers on vessels and gear aid in fishery law enforcement and allows other fishermen to report suspicious activity. Reporting of fishing activities allows monitoring of fish received by foreign vessels.

II. Method of Collection

Foreign fishing activity reports are made by radio when fishing begins or ceases, to report on transfers of fish, and to file weekly reports on the catch or receipt of fish. Weekly reports may be submitted by fax or email. Recordkeeping requirement for foreign vessels include a communications log, a transfer log, a daily fishing log, a consolidated fishing or joint venture log, and a daily joint venture log. These records must be maintained for three years. Paper forms are used for foreign fishing vessel permit applications. No information is submitted for the vessel and gear marking requirements.

III. Data

OMB Control Number: 0648-0075.

Form Number: None.

Type of Review: Regular submission (extension of a currently approved collection).

Affected Public: Business or other for-profit organizations.

Estimated Number of Respondents: 8.

Estimated Time per Response: For permit applications: one and one-half hours for an application for a directed fishery; two hours for a joint venture application, and 45 minutes for a transshipment permit. For fishing activity reporting: 6 minutes for a joint venture report; 30 minutes per day for joint venture recordkeeping; and 7½ minutes per day for recordkeeping by transport vessels. For weekly reports, 30 minutes per response. For foreign vessel and gear identification marking: 15 minutes per marking.

Estimated Total Annual Burden Hours: 82.

Estimated Total Annual Cost to Public: $3,337 in recordkeeping/reporting costs.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 17, 2013.
Gwellnar Banks,
Management Analyst, Office of the Chief Information Officer.

[FR Doc. 2013-30455 Filed 12-20-13; 8:45 am]

BILLING CODE 3510-22-P